DEPARTMENT OF COMMERCE

Foreign-Trade Zones Board

[S-057-2015]

Approval of Subzone Expansion; Subzone 231A; Medline Industries, Inc.; Lathrop, California

On April 22, 2015, the Executive Secretary of the Foreign-Trade Zones (FTZ) Board docketed an application submitted by the Port of Stockton, California, grantee of FTZ 231, requesting to expand Subzone 231A subject to the existing activation limit of FTZ 231, on behalf of Medline Industries, in Lathrop, California.

The application was processed in accordance with the FTZ Act and Regulations, including notice in the Federal Register inviting public comment (80 FR 23771, 04/29/2015). The FTZ staff examiner reviewed the application and determined that it meets the criteria for approval. Pursuant to the authority delegated to the FTZ Board's Executive Secretary (15 CFR Sec. 400.36(f)), the application to expand Subzone 231A is approved, subject to the FTZ Act and the Board's regulations, including Section 400.13, and further subject to FTZ 231's 2,000-acre activation limit.

Dated: August 4, 2015.
Elizabeth Whiteman,
Acting Executive Secretary.

[FR Doc. 2015-19605 Filed 8-7-15; 8:45 am]

BILLING CODE 3510-DS-P